DEPARTMENT OF ENERGY

Federal Energy Regulatory Commission

[Docket No. RP01-11-001]

Arkansas Western Pipeline, L.L.C.; Notice of Compliance Filing

November 22, 2000.

Take notice that on November 17, 2000, Arkansas Western Pipeline, L.L.C. (AWP) tendered for filing as part of its FERC Gas Tariff, Second Revised Volume No. 1, Substitute First Revised Sheet No. 28, Substitute Original Sheet No. 28A, and Substitute Original Sheet No. 60B, to be effective November 1, 2000.

AWP asserts that the purpose of this filing is to comply with the Commission's order issued October 27, 2000, in Docket No. RP01-11-000.

AWP states that it is filing to remove from its tariff provisions providing for the imposition of transportation charges for imbalance netting and trading pursuant to the directive of the Commission's order in this proceeding.

AWP further states that it has served copies of this filing upon the company's jurisdictional customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30346 Filed 11-28-00; 8:45 am]

BILLING CODE 6717-01-M